DEPARTMENT OF LABOR

Employment and Training Administration

[TA-W-59,491]

Quality Cleaning Service Employed at Western Graphics Corporation; Eugene, OR; Notice of Termination of Investigation

Pursuant to section 221 of the Trade Act of 1974, as amended, an investigation was initiated on May 31, 2006 in response to a worker petition filed by a company official on behalf of workers at Quality Cleaning Service employed at Western Graphics Corporation, Eugene, Oregon.

The petitioning group of workers is covered by an active certification (TA-W-59,074) which expires on March 30, 2008. This certification was amended on June 7, 2006 to include any employees of Quality Cleaning Service employed at Western Graphics Corporation in Eugene, Oregon. Consequently, further investigation in this case would serve no purpose, and the investigation has been terminated.

Signed at Washington, DC, this 23rd day of June 2006.
Richard Church,
Certifying Officer, Division of Trade Adjustment Assistance.

[FR Doc. E6-11859 Filed 7-24-06; 8:45 am]

BILLING CODE 4510-30-P